DEPARTMENT OF DEFENSE

GENERAL SERVICES ADMINISTRATION

NATIONAL AERONAUTICS AND SPACE ADMINISTRATION

[OMB Control No. 9000-00XX]

Federal Acquisition Regulation; Information Collection; Hubzone Program

AGENCY: Department of Defense (DOD), General Services Administration (GSA), and National Aeronautics and Space Administration (NASA).

ACTION: Notice of request for public comments regarding a new OMB information clearance.

SUMMARY: Under the provisions of the Paperwork Reduction Act of 1995 (44 U.S.C. Chapter 35), the Federal Acquisition Regulation (FAR) Secretariat will be submitting to the Office of Management and Budget (OMB) a request to review and approve a new information collection requirement regarding HUBZone Program revisions.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 13, 2009.

ADDRESSES: Submit comments regarding this burden estimate or any other aspect of this collection of information, including suggestions for reducing this burden to the Regulatory Secretariat (VPR), General Services Administration, Room 4041, 1800 F Street, NW., Washington, DC 20405. Please cite OMB Control No. 9000-XXXX, HUBZone Program, in all correspondence.

FOR FURTHER INFORMATION CONTACT: Ms. Rhonda Cundiff, Program Analyst, Contract Policy Division, GSA, (202) 219-1813, or via e-mail to rhonda.cundiff@gsa.gov.

SUPPLEMENTARY INFORMATION:

A. Purpose

This information collection facilitates implementation of a HUBZone Program Federal Acquisition Regulation (FAR) revision as a result of revisions to the Small Business Administration regulations. The revision to the FAR requires the HUBZone offeror to provide the Contracting Officer a copy of the notice required by 13 CFR 126.601 if material changes occur before contract award that could affect its HUBZone eligibility. This notification to the contracting officer ensures that the offeror is still eligible for the award of a HUBZone contract.

B. Annual Reporting Burden

Number of Respondents: 8,000.

Responses Per Respondent: 1.

Hours Per Response: .25.

Total Burden Hours: 2,000.

Obtaining Copies of Proposals: Requesters may obtain a copy of the information collection documents from the General Services Administration, Regulatory Secretariat (VPR), 1800 F Street, NW., Room 4041, Washington, DC 20405, telephone (202) 501-4755. Please cite OMB Control No. 9000-XXXX, HUBZone Program, in all correspondence.

Dated: September 8, 2009.
Al Matera,
Director, Acquisition Policy Division.

[FR Doc. E9-22060 Filed 9-11-09; 8:45 am]

BILLING CODE 6820-EP-P